DEPARTMENT OF TRANSPORTATION

Federal Aviation Administration

14 CFR Part 39

[Docket No. FAA-2004-19753; Directorate Identifier 2002-NM-264-AD]

RIN 2120-AA64

Airworthiness Directives; Boeing Model 767-200, -300, and -300F Series Airplanes

AGENCY: Federal Aviation Administration (FAA), DOT.

ACTION: Notice of proposed rulemaking (NPRM).

SUMMARY: The FAA proposes to supersede an existing airworthiness directive (AD) for certain Boeing Model 767-200, -300, and -300F series airplanes. That AD currently requires inspections for fatigue cracking of the horizontal stabilizer pivot bulkhead, and repetitive inspections or other follow-on actions. That action also provides a permanent repair, which is optional for airplanes with no cracks, and, if accomplished, ends the repetitive inspections. This proposed AD would require, for airplanes on which the permanent repair is not installed, repetitive inspections of the same and additional inspection locations at new inspection intervals; a one-time torque test; and related investigative and corrective actions. For airplanes on which the permanent repair is installed, this proposed AD would require repetitive inspections of the repaired area and, if necessary, corrective action. This proposed AD is prompted by reports of loose tension bolts and crack indications in the fuselage skin. We are proposing this AD to find and fix fatigue cracking of the horizontal stabilizer pivot bulkhead and adjacent structure, which could result in loss of the horizontal stabilizer.

DATES: We must receive comments on this proposed AD by January 18, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

You can get the service information identified in this proposed AD from Boeing Commercial Airplanes, P.O. Box 3707, Seattle, Washington 98124-2207.

You may examine the contents of this AD docket on the Internet at http://dms.dot.gov, or at the Docket Management Facility, U.S. Department of Transportation, 400 Seventh Street SW., room PL-401, on the plaza level of the Nassif Building, Washington, DC.

FOR FURTHER INFORMATION CONTACT: Technical information: Suzanne Masterson, Aerospace Engineer, Airframe Branch, ANM-120S, FAA, Seattle Aircraft Certification Office, 1601 Lind Avenue, SW., Renton, Washington 98055-4056; telephone (425) 917-6441; fax (425) 917-6590.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-19753; Directorate Identifier 2002-NM-264-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On April 27, 2001, we issued AD 2001-09-13, amendment 39-12220 (66 FR 23538, May 9, 2001), for certain Boeing Model 767-200, -300, and -300F series airplanes. That AD requires inspections for fatigue cracking of the horizontal stabilizer pivot bulkhead, and repetitive inspections or other follow-on actions. That AD also provides a permanent repair, which is optional for airplanes with no cracks, and, if accomplished, ends the repetitive inspections. That AD was prompted by reports of fatigue cracking of the horizontal stabilizer pivot bulkhead on several affected airplanes. We issued that AD to find and fix fatigue cracking of the horizontal stabilizer pivot bulkhead and adjacent structure, which could result in loss of the horizontal stabilizer.

Actions Since Existing AD Was Issued

Since we issued AD 2001-09-13, an airplane operator reported three incidents of loose tension bolts at stringer 12A. Another operator reported that there were indications of cracks in the fuselage skin at “Area 1” as shown on Sheet 2 of Figure 2 of Boeing Alert Service Bulletin 767-53A0078, Revision 4, dated September 26, 2002.

In addition, the preamble to AD 2001-09-13 said that we were considering further action to require the permanent repair that was an option in that AD. However, further information shows that operators have found cracks at the repaired area. Therefore, we are not requiring the permanent repair from AD 2001-09-13 as a preventive modification in this proposed AD.

Relevant Service Information

We have reviewed Boeing Alert Service Bulletin 767-53A0078, Revision 4, dated September 26, 2002.

The alert service bulletin describes the following procedures for airplanes on which the permanent repair, described in previous revisions of the service bulletin, was not installed:

• Inspections for cracks of the forward and aft outer chord, the splice fitting, the tension fitting, the aft mid chord, and the upper and lower intercostals. The inspection methods include the following, as applicable: Repetitive detailed inspections, surface high frequency eddy current (HFEC) inspections, open-hole HFEC inspections, and low frequency eddy current (LFEC) inspections.

• Corrective action and related investigative action if cracks are found in the forward outer chord. The corrective action is installing a permanent repair. The related investigative action is repetitive inspections of the repaired area.

• Installing a time-limited repair as an alternative to the permanent repair, which includes the related investigative and corrective actions of an additional visual inspection for cracks, and installation of the permanent repair either before further flight after this inspection if cracks are found, or within 3,000 flight cycles or 18 months after the inspection (whichever occurs first), if no cracks are found.

• A torque check of the bolt in the tension fitting, and related investigative and corrective actions. The related investigative action is doing a visual inspection of the bolt and bolt-hole for damage, and an HFEC inspection of the bolt-hole for damage. The corrective action is to contact Boeing for repair data.

• If any crack is found in the aft outer chord, the aft mid chord, the splice fitting, the tension fitting, or the intercostal, the service bulletin recommends that operators contact Boeing for repair data.

For airplanes on which the permanent repair was installed using previous revisions of the service bulletin, Revision 4 of the service bulletin describes procedures for repetitive inspections of the repaired area. The service bulletin recommends that operators contact Boeing for any necessary corrective action.

We have determined that accomplishment of the actions specified in the service information will adequately address the unsafe condition.

FAA's Determination and Requirements of the Proposed AD

We have evaluated all pertinent information and identified an unsafe condition that is likely to exist or develop on other products of this same type design. Therefore, we are proposing this AD, which would supersede AD 2001-09-13. This proposed AD would continue to require inspections for fatigue cracking of the horizontal stabilizer pivot bulkhead, and repetitive inspections or other follow-on actions. For airplanes with cracks, this proposed AD also would continue to require a permanent repair, which is optional for airplanes with no cracks. This proposed AD would require, for airplanes on which the permanent repair is not installed, repetitive inspections of the same and additional inspection locations at new inspection intervals; a one-time torque test; and other related corrective and investigative actions. For airplanes on which the permanent repair is installed, this proposed AD would require repetitive inspections of the repaired area, and corrective action if necessary. This proposed AD would require you to use the service information described previously to perform these actions, except as discussed under “Difference Between the Proposed AD and the Service Bulletin.”

Difference Between the Proposed AD and the Service Bulletin

The service bulletin specifies that you may contact the manufacturer for instructions on how to repair certain conditions, but this proposed AD would require you to repair those conditions in one of the following ways:

• Using a method that we approve; or

• Using data that meet the type certification basis of the airplane, and that have been approved by a Boeing Company Designated Engineering Representative who has been authorized by the FAA to make such findings.

Changes to Existing AD

This proposed AD would retain all requirements of AD 2001-09-13 with revised repetitive inspection intervals. Since AD 2001-09-13 was issued, the AD format has been revised, and certain paragraphs have been rearranged. As a result, the corresponding paragraph identifiers have changed in this proposed AD, as listed in the following table:

Revised Paragraph Identifiers
Requirement in AD 2001-09-13 | Corresponding requirement in this proposed AD
Paragraph (a) | paragraph (f).
Paragraph (b) | paragraph (g).
Paragraph (c) | paragraph (h).
Paragraph (d) | paragraph (i).
Paragraph (e) | paragraph (j).
Paragraph (f) | paragraph (p).

In addition, we have changed all references to a “detailed visual inspection” in the AD 2001-09-13 to “detailed inspection” in this proposed AD, which is defined in Note 1.

We have also changed the applicability of the proposed AD to refer to Revision 4 of the service bulletin rather than to Revision 2, which we referenced in the applicability of AD 2001-09-13. Both revisions of the service bulletin refer to the same airplane line numbers, so airplanes have not been added to the applicability.

Costs of Compliance

This proposed AD would affect about 699 Boeing Model 767-200, -300, and -300F series airplanes worldwide. The following table provides the estimated costs for U.S. operators to comply with this proposed AD.

Estimated Costs
Action | Work hours | Average labor rate per hour | Parts | Cost per airplane | Number of U.S.-registered airplanes
Inspection (required by AD 2001-09-13) | 1 | $65 | None | $65 (per inspection cycle) | 287.
Inspection and torque check (new proposed action) | 4 | 65 | None | 260 (per inspection cycle) | 287.
Post-modification inspection (new proposed action) | 6 | 65 | None | 390 | Those with the permanent repair installed using this proposed AD or AD 2001-09-13.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12220 (66 FR 23538, May 9, 2001) and adding the following new airworthiness directive (AD):

Boeing: Docket No. FAA-2004-19753; Directorate Identifier 2002-NM-264-AD.

Comments Due Date

(a) The Federal Aviation Administration must receive comments on this airworthiness directive (AD) action by January 18, 2005.

Affected ADs

(b) This AD supersedes AD 2001-09-13, amendment 39-12220.

Applicability

(c) This AD applies to Boeing Model 767-200, -300, and -300F series airplanes, as listed in Boeing Alert Service Bulletin 767-53A0078, Revision 4, dated September 26, 2002; certificated in any category.

Unsafe Condition

(d) This AD was prompted by reports of loose tension bolts, and crack indications in the fuselage skin. We are issuing this AD to find and fix fatigue cracking of the horizontal stabilizer pivot bulkhead and adjacent structure, which could result in loss of the horizontal stabilizer.

Compliance

(e) You are responsible for having the actions required by this AD performed within the compliance times specified, unless the actions have already been done.

Requirements of AD 2001-09-13, Restated

Initial Inspections

(f) Prior to the accumulation of 8,000 total flight cycles, or within 90 days after May 24, 2001 (the effective date of AD 2001-09-13), whichever occurs later, perform detailed, surface high frequency eddy current (HFEC), and low frequency eddy current (LFEC) inspections, as applicable, for cracking of the forward and aft outer chord, aft mid chord, and upper and lower intercostals of the Station 1809.5 bulkhead. Do the inspections per Boeing Service Bulletin 767-53-0078, Revision 2, dated April 19, 2001; or Boeing Alert Service Bulletin 767-53-0078, Revision 3, dated November 15, 2001.

Note 1: For the purposes of this AD, a detailed inspection is: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Repetitive Inspections

(g) For areas where no cracking is found during the inspection per paragraph (f) of this AD: Repeat the inspections in paragraph (f) thereafter at the intervals specified in paragraphs (g)(1) and (g)(2) of this AD, per Boeing Service Bulletin 767-53-0078, Revision 2, dated April 19, 2001; or Boeing Alert Service Bulletin 767-53-0078, Revision 3, dated November 15, 2001; until paragraph (i), (l)(1), or (m) of this AD has been done.

(1) Repeat the detailed inspection every 3,000 flight cycles, or 18 months, whichever comes first.

(2) Repeat the surface HFEC and LFEC inspections every 6,000 flight cycles or 36 months, whichever comes first.

Repair and Follow-On Actions

(h) If any cracking is found during any inspection required by paragraph (f) or (g) of this AD, before further flight, repair per paragraph (h)(1) or (h)(2) of this AD, as applicable.

(1) For cracking of the aft outer chord, aft mid chord, or any intercostal: Repair per a method approved by the Manager, Seattle Aircraft Certification Office (ACO), FAA. For a repair method to be approved by the Manager, Seattle ACO, as required by this paragraph, the Manager's approval letter must specifically reference this AD.

(2) For cracking of the forward outer chord: Repair per Boeing Service Bulletin 767-53-0078, Revision 2, dated April 19, 2001; Revision 3, dated November 15, 2001; or Revision 4, dated September 26, 2002; except as provided by paragraph (j) of this AD. Procedures for repair include open-hole HFEC inspections for cracking of certain fastener holes of the chord and longeron fitting, detailed inspections for cracking of adjacent structure, and installation of new chords, splices, fairings, and brackets. If the time-limited repair is done per the service bulletin, do a detailed inspection of the repaired area within 1,500 flight cycles or 9 months after installation of the temporary repair, whichever comes first, and do paragraph (h)(2)(i) or (h)(2)(ii) of this AD, per the service bulletin. As of the effective date of this AD, inspect only in accordance with Boeing Alert Service Bulletin 767-53-0078, Revision 4, dated September 26, 2002.

(i) If no cracking is found during the inspection of the repaired area: Within 3,000 flight cycles or 18 months after installation of the time-limited repair, whichever comes first, do paragraph (i), “Permanent Repair,” of this AD.

(ii) If any cracking is found during the inspection of the repaired area: Before further flight, do paragraph (i), “Permanent Repair,” of this AD.

Permanent Repair

(i) Except as provided by paragraph (j) of this AD, installation of the permanent repair of the forward outer chord, including accomplishment of all actions specified in Part 4 of the Accomplishment Instructions of Boeing Service Bulletin 767-53-0078, Revision 2, dated April 19, 2001; Boeing Service Bulletin 767-53-0078, Revision 3, dated November 15, 2001; or Boeing Alert Service Bulletin 767-53-0078, Revision 4, dated September 26, 2002; terminates the repetitive inspections required by paragraph (g) of this AD. As of the effective date of this AD, install the permanent repair only in accordance with Boeing Alert Service Bulletin 767-53-0078, Revision 4, dated September 26, 2002.

Note 2: Installation of the permanent repair before the effective date of this AD in accordance with Boeing Service Bulletin 767-53-0078, dated October 15, 1998; Revision 1, dated September 9, 1999; is acceptable for compliance with paragraph (i) of this AD.

Exception to Repair Instructions

(j) For repairs of the forward outer chord: Where the service bulletin specifies to ask Boeing for repair data, repair per a method approved by the Manager, Seattle ACO, or per data meeting the type certification basis of the airplane approved by a Boeing Company Designated Engineering Representative who has been authorized by the Manager, Seattle ACO, to make such findings. For a repair method to be approved by the Manager, Seattle ACO, as required by this paragraph, the Manager's approval letter must specifically reference this AD.

New Requirements of This AD

Initial and Repetitive Inspections, and Torque Test for Airplanes Without the Permanent Repair

(k) For airplanes that have not had the permanent repair installed in accordance with paragraph (i) of this AD, at the later of the times in paragraphs (k)(1) and (k)(2) of this AD, do all the actions in paragraph (l) of this AD.

(1) Within 3,000 flight cycles or 18 months after the effective date of this AD, whichever occurs first.

(2) Prior to the accumulation of 8,000 total flight cycles.

(l) Do all the actions in paragraphs (l)(1) and (l)(2) of this AD in accordance with “Part 1—Inspection” of the Accomplishment Instructions of Boeing Alert Service Bulletin 767-53A0078, Revision 4, dated September 26, 2002.

(1) Do detailed, LFEC, and applicable HFEC inspections for cracking of the forward and aft outer chord, splice fitting, aft mid chord, aft intercostal, tension fitting, and fuselage skin, and repeat the applicable inspections at the applicable time in paragraph (l)(1)(i) and (l)(1)(ii) of this AD. This inspection terminates the repetitive inspections required by paragraphs (f) and (g) of this AD.

(i) Except as provided by paragraph (l)(1)(ii) of this AD: Repeat the inspections, at intervals not to exceed 3,000 flight cycles until the permanent repair in paragraph (m)(2) of this AD has been done.

(ii) For airplanes that meet the criteria in flag note 1 of Figure 1 of Boeing Alert Service Bulletin 767-53A0078, Revision 4, dated September 26, 2002 (close ream fasteners, external doubler, rub strip or wear plate installed): Repeat the open-hole HFEC inspections for cracking of the forward outer chord, splice fitting, tension fitting, and fuselage skin in Step 7, Figure 2 of the service bulletin at intervals not to exceed 9,000 flight cycles until the permanent repair in paragraph (m)(2) of this AD has been done.

(2) Do a one-time torque test and related investigative and corrective actions of the tension bolt at lower stringer 12A. If any corrosion or damage is found in the bolt hole, and the service bulletin specifies to contact Boeing for appropriate action: Before further flight, repair per a method approved by the Manager, Seattle Aircraft Certification Office (ACO), FAA; or per data meeting the type certification basis of the airplane approved by a Boeing Company Designated Engineering Representative who has been authorized by the Manager, Seattle ACO, to make such findings. For a repair method to be approved, the approval must specifically reference this AD.

Corrective Actions

(m) If any cracking is found during any inspection required by paragraph (l), (n) and (o) of this AD, before further flight, repair in accordance with paragraph (m)(1) or (m)(2) of this AD, as applicable.

(1) For cracks found during the inspection required by paragraph (n) or (o) of this AD, or for cracks found in the aft outer chord, tension fitting, splice fitting, aft mid chord, or any intercostal: Before further flight, repair per a method approved by the Manager, Seattle Aircraft Certification Office (ACO), FAA; or per data meeting the type certification basis of the airplane approved by a Boeing Company Designated Engineering Representative who has been authorized by the Manager, Seattle ACO, to make such findings. For a repair method to be approved, the approval must specifically reference this AD.

(2) For cracks in the forward outer chord: Prior to further flight, do the time limited repair in paragraph (h)(2) of this AD, or do the permanent repair in paragraph (i) of this AD. If the time limited repair is done, do the other applicable actions in paragraph (h)(2) of this AD at the times specified in that paragraph. As of the effective date of this AD, only repairs done per Boeing Alert Service Bulletin 767-53A0078, Revision 4, dated September 26, 2002, are acceptable for compliance with the requirements of this paragraph.

Repetitive Inspection of Repaired Area

(n) For any airplane on which the permanent repair in paragraph (i) or (m)(2) of this AD is installed, at the later of the times in paragraph (n)(1) and (n)(2) of this AD: Do detailed, LFEC, and applicable HFEC inspections of the forward and aft outer chords, tension fitting, splice fitting, and splice angle for cracks; and a detailed inspection of the aft mid chord and aft upper and lower intercostals for cracks. Do the inspections in accordance with “Part 6—After Modification or After-Repair Inspection Program” of the Accomplishment Instructions of Boeing Alert Service Bulletin 767-53A0078, Revision 4, dated September 26, 2002. Repeat each inspection, except as provided by paragraph (o) of this AD, thereafter at intervals not to exceed 6,000 flight cycles, or 36 months, whichever occurs first.

(1) Within 12,000 flight cycles or 72 months after the repair accomplished in accordance with paragraph (i) or (m)(2) of this AD.

(2) Prior to the accumulation of 25,000 total flight cycles.

(o) For any airplane on which the permanent repair in paragraph (i) or (m)(2) of this AD is installed, and that meets the criteria (close ream fasteners, external doubler, rub strip or wear plate installed) in flag note 1 of Figure 9 of Boeing Alert Service Bulletin 767-53A0078, Revision 4, dated September 26, 2002: After the initial inspection in paragraph (n) of this AD, repeat the open-hole HFEC inspection in Step 7 of Figure 10 of the service bulletin, at intervals not to exceed 12,000 flight cycles, or 72 months, whichever occurs first.

Alternative Methods of Compliance

(p)(1) In accordance with 14 CFR 39.19, the Manager, Seattle Aircraft Certification Office (ACO), FAA, is authorized to approve alternative methods of compliance (AMOCs) for the corresponding provisions of this AD.

(2) AMOCs, approved previously per AD 2001-09-13, amendment 39-12220, are approved as AMOCs with the corresponding provisions of this AD.

(3) An AMOC that provides an acceptable level of safety may be used for any repair required by this AD, if it is approved by a Boeing Company Designated Engineering Representative who has been authorized by the Manager, Seattle ACO, to make such findings.

Issued in Renton, Washington, on November 17, 2004.
Ali Bahrami,
Manager, Transport Airplane Directorate, Aircraft Certification Service.

[FR Doc. 04-26494 Filed 11-30-04; 8:45 am]

BILLING CODE 4910-13-P